DEPARTMENT OF TRANSPORTATION

Federal Transit Administration

Preparation of an Environmental Impact Statement for High Capacity Transit Improvements for the Indianapolis Northeast Corridor Now Known as (nka) Green Rapid Transit Line in the Indiana Counties of Marion and Hamilton

AGENCY: Federal Transit Administration, U.S. Department of Transportation.

ACTION: Supplemental notice of intent to prepare an Environmental Impact Statement.

SUMMARY: The Federal Transit Administration (FTA), the Central Indiana Regional Transportation Authority (CIRTA), the Indianapolis Metropolitan Planning Organization (Indianapolis MPO) and Indianapolis Public Transportation Corporation (IndyGo) intend to prepare an Environmental Impact Statement (EIS) for the Northeast Corridor Project, nka Green Rapid Transit Line (Green Line) Project relating to proposed fixed guideway transit improvements in the Indiana counties of Marion and Hamilton. The study area is an approximately 23-mile long travel corridor extending from downtown Indianapolis to downtown Noblesville and includes the community of Fishers. Options to be considered include No-Build, Bus Rapid Transit (BRT) and Diesel Light Rail Transit (LRT). The EIS process provides opportunities for the public to comment on the scope of the EIS, including the project's purpose and need, the alternatives to be considered, and the impacts to be evaluated. The southern terminus of all alternatives would be adjacent to the transit center in downtown Indianapolis.

An original Notice of Intent for the proposed Green Line transit improvement was published on March 9, 2010 and was followed by initial project scoping, public involvement and agency coordination. Project activities were suspended following the initial scoping activities to address funding issues and conduct additional planning related to development of the regional transit vision plan (referred to as “Indy Connect”). As funding issues are being addressed and the regional transit plan has been completed, scoping activities for the Green Line have resumed.

The purpose of this notice is to alert interested parties regarding the intent to prepare the EIS, to provide information on the nature of the proposed project and possible alternatives, to invite public participation in the EIS process, including comments on the scope of the EIS as proposed in this notice, to announce that a public scoping meeting will be conducted, and to identify participating agency contacts. This input will be used to assist decision makers in determining a locally preferred alternative (LPA) and preparing a Draft Environmental Impact Statement (DEIS) for the Green Line. Upon selection of an LPA, the project sponsors will request permission from FTA to enter into Project Development per requirements of 49 USC 5309. The Final Environmental Impact Statement (FEIS) and Record of Decision (ROD) will be issued after the project has entered Project Development.

Dates, Times, and Locations: Comment Due Date: Written comments on the purpose and need for the proposed improvements, and the scope of alternatives and impacts to be considered should be sent to the Indianapolis MPO by December 19, 2013.

A public scoping meeting to accept comments on the scope of the study will be held on December 5, 2013 from 6:00 p.m. until 8:00 p.m. in the Julia Carson Government Center located at 300 East Fall Creek Parkway North Drive, Indianapolis, Indiana 46205. The public scoping meeting will be informal and in an open house format. Interested persons may ask questions about the proposal and the FTA's environmental review process. The project's purpose and need and the initial set of alternatives proposed for study will be presented at the meetings. CIRTA, the Indianapolis MPO, IndyGo and project team members will be available to answer questions and receive comments. A writing station will be available to those who wish to submit written comments at the public scoping meeting. Project team members will be available to listen and make notes of residents' comments.

The public scoping meeting location complies with the Americans with Disabilities Act. Persons needing special accommodations should contact Jeremy Moore, Project Manager, at (317) 327-5495 or Jeremy.Moore@indy.gov at least 48 hours prior to the meeting.

An interagency scoping meeting for federal, state, regional and local resource and regulatory agencies will be held on December 5, 2013 from 2:30 p.m. until 4:00 p.m. in the HNTB Corporation offices located at 111 Monument Circle, Suite 1200, Indianapolis, Indiana 46204. The meeting will also be available via webcast. All appropriate agencies that may have an interest in this project, or have a potential interest in becoming a participating agency, will be notified of the meeting through separate direct correspondence.

Submitting Comments on the Scope of the Study: Scoping materials will be available at the meetings and through the project's Web site at http://www.indyconnect.org. FTA, CIRTA, the Indianapolis MPO and IndyGo encourage broad participation in the EIS process. All interested agencies, organizations, communities, and members of the public are invited to participate in the scoping process by reviewing and commenting on the scope of the EIS.

ADDRESSES: Written comments on the scope of the EIS may be submitted to the attention of Jeremy Moore, Project Manager, Indianapolis Metropolitan Planning Organization, City County Building, Suite 1922, 200 E. Washington Street, Indianapolis, Indiana 46204, Phone: (317) 327-5495, Fax: (317) 327-5950, Email: Jeremy.Moore@indy.gov.

Additional Information: Contact Reginald Arkell, Federal Transit Administration, Region 5, 200 W. Adams Street, Suite 320, Chicago, Illinois 60606, Phone: 312-886-3704, Email: reginald.arkell@dot.gov.

SUPPLEMENTARY INFORMATION:

I. Scoping

The purpose of the scoping process is to provide an opportunity for the public and agencies to comment on and provide early input to the Green Line DEIS process. On March 9, 2010, FTA published a Notice of Intent (NOI) in the Federal Register to initiate the Green Line Environmental Impact Statement process. As part of that effort, a Scoping Document was mailed to potential participating agencies in March 2010 and a resource agency scoping meeting was held in April 2010. The original public scoping meetings for the project DEIS were held on March 17, 2010 at the Julia Carson Government Center in Indianapolis, and on March 24, 2010 at the Hamilton County Government Center in Noblesville. Comments were received from various agencies and incorporated into an Environmental Scoping Report which was submitted to participating agencies in November 2010.

Project activities were suspended following the initial scoping activities in 2010 for two reasons. First, the DEIS cannot be approved unless the project is included in the fiscally constrained Long Range Transportation Plan. The fiscal constraint requirement cannot be met unless there is a reasonable expectation of an additional transit funding source. The City of Indianapolis and other local governments began advocating for legislation to allow the establishment of a dedicated local transit funding source in 2010. The Indiana House of Representatives passed the necessary enabling legislation for a local transit referendum in 2013. Transit funding proposals are still under review by the Indiana Senate. Given the significant progress since 2010, it is reasonable to resume the Green Line DEIS development activities.

The second significant reason to temporarily suspend activities was the development of the regional transit vision plan (Indy Connect). During the period 2010 to 2013, a sophisticated financial model was developed to support regional plan development, a balanced regional transit plan was defined based on realistic funding expectations, and an unprecedented public involvement program was defined and executed to promote public understanding of the plan. The context and timing of the Green Line Project have become better defined, and alternatives have been refined to better meet the needs of the corridor and the overall system.

Due to the time that has lapsed, and recognizing the changed context and alternatives definition, the project team is re-initiating project scoping with resource agencies, including those that declined to participate in 2010. Each agency and the public are again being invited to participate in the project development process for the Green Line Project. This will provide the opportunity for meaningful participation as analyses are being updated to reflect changed conditions.

The FTA, the Indianapolis MPO and CIRTA invite all interested individuals, organizations, businesses, and federal, state, and local agencies to participate in establishing the purpose and need, project alternatives, and methodologies of the environmental analysis approach for the EIS, as well as participate in an active public involvement program. During the scoping process, the public is invited to comment on (a) the purpose and need; (b) the alternatives to be addressed; (c) the transit technologies to be evaluated; (d) the alignments and station locations to be considered; (e) the environmental, social, and economic impacts to be analyzed; and (f) the evaluation approach to be used to select the LPA.

NEPA “scoping” (40 CFR 1501.7) is intended to identify the significant issues associated with alternatives that will be examined in detail and to limit consideration of issues that are not truly significant. It is in the NEPA scoping process that potentially significant environmental impacts should be identified. Environmental benefits will also be highlighted.

Once the scope of the environmental study is defined, an annotated outline of the draft EIS will be prepared and shared with interested agencies and the public. The outline will serve to: (1) Document the results of the scoping process; (2) contribute to the transparency of the process; and (3) provide a clear roadmap for concise development of the environmental document.

Public outreach activities will continue with interested residents, stakeholders and groups throughout the EIS process. The Web site, http://www.indyconnect.org, will be updated periodically to reflect the status of the project. Additional opportunities for public participation will be announced through mailings, notices, social media, and press releases.

II. Description of Study Area and Project Need

The Green Line Project Study Area includes the main travel corridors between downtown Indianapolis and the rapidly growing areas of Hamilton County, Indiana, including the communities of Fishers and Noblesville, as well as the intervening high-density residential and commercial areas of northeastern and central Marion County. This is referred to as the northeast corridor.

As currently identified, the purpose of the Green Line Project is to improve mobility within the northeast corridor of Central Indiana through the development of improved transit options. Consistent with the purpose of the project, the EIS will address the need to: improve mobility, accessibility and travel options within the northeast corridor; support sustainable, long-term economic growth and livability; and support local transportation plans and policies.

III. Alternatives

The proposed alternatives to be evaluated in the EIS will include the following:

• No-Build Alternative: The No-Build Alternative is defined as the existing transportation system and any committed transportation improvements. Committed transportation improvements include projects in the Indianapolis Transportation Improvement Program (TIP), which includes added travel lanes and interchange improvements on I-69 and I-465. The No-Build alternative includes no changes to IndyGo bus service or other transit services. Consideration of the No-Build Alternative is required as part of the NEPA evaluation process.

• Bus Rapid Transit (BRT) Alternatives: A two-lane dedicated busway with on-line stations and other related capital improvements would be constructed in the Hoosier Heritage Port Authority (HHPA) Railroad right of way between Noblesville and 10th Street in Indianapolis. Between 10th Street and the downtown transit center, BRT vehicles would operate on-street in mixed traffic or dedicated lanes via one of three basic alternative routes. The on-street routes utilize Fort Wayne or Massachusetts Avenue, and Pennsylvania and/or Delaware Street. Variations to these basic alignments would be considered near the downtown transit center for BRT vehicles operating in mixed traffic. All BRT alternatives would include enhanced stations with sheltered waiting areas, real-time next bus arrival information and traffic signal preemption technology. The vehicle would be a low-floor diesel-electric hybrid bus with enhanced on-board passenger amenities.

• Diesel Light Rail Transit (LRT) Alternative: The existing track structure of the HHPA rail line would be completely reconstructed between Noblesville and 10th Street in Indianapolis, and new track would be constructed in-street between 10th Street and the downtown transit center. At most locations, the rail guideway in downtown Indianapolis would be in a lane dedicated for transit use. As with BRT, the LRT vehicles would utilize Fort Wayne or Massachusetts Avenue, and Pennsylvania and/or Delaware Street to access the downtown transit center. LRT alternatives would include enhanced stations with sheltered waiting areas, real-time arrival information, low-floor vehicles with enhanced on-board passenger amenities, and fully gated quiet crossings at road crossings outside downtown Indianapolis. Service would be provided by diesel powered light rail vehicles also known as diesel multiple units or DMUs.

• Downtown Indianapolis Options: Two of the downtown alternative alignments utilize Fort Wayne Avenue after leaving the HHPA Corridor and turning to the west onto 10th Street. The first alternative follows Fort Wayne Avenue to Pennsylvania Street, where two-way transit traffic is maintained to Washington Street. At Washington Street, the line turns onto Virginia Avenue and ends just west of the downtown transit center. The second Fort Wayne alternative is the same until it reaches Delaware Street, where it splits and uses Pennsylvania and Delaware Streets for one-way operation to and from the downtown transit center.

A third downtown alternative alignment is on Massachusetts Avenue south of 10th Street. In this option, the downtown transit center is accessed by means of two-way transit operations on Delaware Street.

After leaving the HHPA Corridor on 10th Street, the LRT would use College Avenue to access Massachusetts Avenue. LRT would operate in dedicated lanes over the full length of the route. Center lanes on Massachusetts Avenue would require existing 90-degree parking to be converted to parallel parking. Curb lanes would be used on each side of Delaware Street. LRT would require a section of “tail track” south of the downtown transit center to reverse direction.

If LRT is implemented on the Fort Wayne alignments, it is assumed that exclusive lanes would be provided throughout the route with the exception of a short segment of 10th Street where the street is narrow and eastbound traffic volumes are low. The transit lanes would be provided within existing curb lines and stations would be mostly in existing right of way. Implementing LRT would result in loss of travel and/or parking lanes throughout the downtown Indianapolis route.

BRT options could operate in the same exclusive transit lanes that would be used by LRT, with similar impacts to parking and travel lanes, or BRT could operate in general purpose lanes with mixed traffic, taking advantage of the effective traffic signal coordination of the Pennsylvania/Delaware one-way pair. The path for mixed traffic operations could vary in the vicinity of the downtown transit center using Washington Street and Virginia Avenue to turn around. Additionally, mixed traffic BRT could access to Massachusetts Avenue via Carrolton Avenue. This option does not exist for LRT vehicles since they are unable to make the 90-degree turns necessary to use cross streets to access Pennsylvania Street.

Based on public and agency input received during scoping, variations of the above alternatives would be considered for the Green Line Project.

IV. Potential Impacts for Analysis

The scoping process will identify the environmental impact areas most relevant to the project that merit further exploration in the EIS. The potential impact areas include: land use, zoning, potential displacements, parkland, economic development, community disruptions, environmental justice, aesthetics, air quality, noise and vibration, wildlife, vegetation, threatened and endangered species, farmland, water quality, wetlands, waterways, floodplains, hazardous materials, and cultural, historic and archaeological resources.

The EIS will take into account both positive and negative impacts, direct and indirect impacts, short-term and long-term impacts, and site specific and corridor wide impacts. Evaluation criteria will be consistent with all Federal, state, and local criteria, regulations and policies. The EIS will identify measures to avoid or mitigate significant adverse environmental impacts.

To ensure that all significant issues related to this proposed action are identified and addressed, scoping comments and suggestions are invited from all interested parties.

The public involvement program will include a full range of involvement activities. Activities will include outreach to local and regional officials and community and civic groups; a public scoping process to define the issues of concern among all parties interested in the project; organizing periodic meetings with various local agencies, organizations and committees; a public hearing on release of the DEIS; and development and distribution of project information via newsletters, Web site, and social media. Specific mechanisms for involvement will be detailed in the public involvement program.

V. Evaluation Criteria

The Indianapolis MPO may seek New Starts funding for the proposed Green Line Project under 49 U.S.C. 5309 and will therefore be subject to New Starts regulations (49 CFR Part 611). MAP-21 (49 USC 5309(d)) requires that projects proposed for New Starts funding be evaluated based on project justification and local financial commitment criteria. Project justification comprises 50 percent of the overall rating and considers mobility improvements, environmental benefits, congestion relief, cost-effectiveness, economic development effects, and existing land use. The other 50 percent of the FTA New Starts rating reflects local financial commitment, which encompasses the proposed share of the project capital cost that would be funded through non-New Starts sources, the current financial condition of the transit system, the commitment of funds for the project and transit system, and the reasonableness of the project financial plan.

With respect to the FTA project development process, one of the more important changes brought about by MAP-21 was the elimination of the requirement for a standalone Alternatives Analysis that would culminate in the selection of a locally preferred alternative. The FTA will instead rely on the NEPA process for alternatives evaluation. The change will reduce redundancy in the New Starts project development process and streamline the review and selection of a locally preferred alternative.

Marisol Simon,
Regional Administrator.

[FR Doc. 2013-27583 Filed 11-18-13; 8:45 am]

BILLING CODE P